SECURITIES AND EXCHANGE COMMISSION

[File No. 500-1]

U.S. Canadian Minerals, Inc.; Order of Suspension of Trading

October 28, 2004.

It appears to the Securities and Exchange Commission that there is a lack of current and accurate information concerning the securities of U.S. Canadian Minerals, Inc. (OTC Bulletin Board symbol “USCA”), a Nevada corporation. Questions have been raised about the accuracy of publicly disseminated information concerning, among other things, U.S. Canadian Minerals' financing and mining activities and the value of U.S. Canadian Minerals' purported assets.

The Commission is of the opinion that the public interest and the protection of investors require a suspension of trading in the securities of the above-listed company.

Therefore, it is ordered, pursuant to Section 12(k) of the Securities Exchange Act of 1934, that trading in the above listed company is suspended for the period from 9:30 a.m. EDT, October 28, 2004, through 11:59 p.m. EST, on November 10, 2004.

By the Commission.
Jill M. Peterson,
Assistant Secretary.

[FR Doc. 04-24411 Filed 10-28-04; 12:00 pm]

BILLING CODE 8010-01-P